DEPARTMENT OF COMMERCE

International Trade Administration

[Application No. 19-1A001]

Export Trade Certificate of Review

AGENCY: International Trade Administration, Commerce.

ACTION: Notice of Issuance of an Amended Export Trade Certificate of Review to National Pecan Shellers Association (“NPSA”), Application Number 19-1A001.

SUMMARY: The Secretary of Commerce, through the Office of Trade and Economic Analysis (“OTEA”), issued an Export Trade Certificate of Review to NPSA on June 7, 2021.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

NPSA's Export Trade Certificate of Review was amended as follows:

1. Added the following entities as new exporting Members of the Certificate within the meaning of section 325.2(l) of the Regulations (15 CFR 325.2(l)):

a. Easterlin Pecan Co, Montezuma, Georgia

b. La Nogalera USA Inc., El Paso, Texas

2. Added the following entities as new non-exporting Members of the Certificate within the meaning of section 325.2(l) of the Regulations (15 CFR 325.2(l)):

a. Pecan Export Trade Council, Atlanta, Georgia

b. The Kellen Company, Atlanta, Georgia

3. Changed the name of the following Member of the Certificate:

a. San Saba Pecan, LP changes to Chase Pecan, LP

4. Corrected the name of the following Member of the Certificate:

a. Diamond Food, LLC changes to Diamond Foods, LLC

Updated List of Members (Within the Meaning of Section 325.2(l) of the Regulations (15 CFR 325.2(l))

Exporting Members

• Arnco, Inc. dba Carter Pecan, Panama City Beach, Florida

• Chase Farms, LLC, Artesia, New Mexico

• Chase Pecan, LP, San Saba, Texas

• Diamond Foods, LLC, Stockton, California

• Easterlin Pecan Co, Montezuma, Georgia

• Green Valley Company, Sauharita, Arizona

• Hudson Pecan Co., Inc., Ocilla, Georgia

• La Nogalera USA Inc., El Paso, Texas

• Lamar Pecan Company, Hawkinsville, Georgia

• Navarro Pecan Company, Corsicana, Texas

• Pecan Grove Farms, Dallas, Texas

• South Georgia Pecan Company, Valdosta, Georgia

Non-Exporting Members

• Pecan Export Trade Council, Atlanta, Georgia

• The Kellen Company, Atlanta, Georgia (Independent Third Party)

The effective date of the amended certificate is February 8, 2021, the date on which NPSA's application to amend was deemed submitted.

Dated: June 14, 2021.
Joseph Flynn,
Director, Office of Trade and Economic Analysis, International Trade Administration, U.S. Department of Commerce.

[FR Doc. 2021-12830 Filed 6-16-21; 8:45 am]

BILLING CODE 3510-DR-P